DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before April 21, 2014. Address written comments to Statutory Import Programs Staff, Room 3720, U.S. Department of Commerce, Washington, DC 20230. Applications may be examined between 8:30 a.m. and 5:00 p.m. at the U.S. Department of Commerce in Room 3720.

Docket Number: 13-053. Applicant: Hofstra University, 114 Hofstra University, Hempstead, NY 11549. Instrument: Electron Microscope. Manufacturer: FEI Company, Czech Republic. Intended Use: The instrument will be used to study the molecular mechanisms underlying an animal's ability to sense changes in nutrient status and alter energy storage and utilization accordingly, to analyze the biological mechanisms that result in the transition from epidermal cell to fiber cell, to study chloride, bromide and sulfate adhesion onto untreated native aluminum samples, and to develop more accurate foraging models for suspension and deposit feeding polychaetes. Justification for Duty-Free Entry: There are no instruments of the same general category manufactured in the United States. Application accepted by Commissioner of Customs: February 18, 2014.

Docket Number: 14-003. Applicant: Western Kentucky University, 1906 College Height Blvd., Bowling Green, KY 42101. Instrument: Electron Microscope. Manufacturer: JEOL Ltd, Japan. Intended Use: The instrument will be used for multiple research projects including the analysis of dimensions, morphologies, and crystal packing of organic ligand-functionalized nanostructures that have potential applicability for energy harvesting applications, the characterization of novel saccharides and antibiotic coated gold nanoparticles for antimicrobial applications, and the production of different shapes and sizes of gold nanoparticles within living plants to monitor the effect of changing reaction parameters of in vitro reactions and changing growth conditions of in vivo experiments. Justification for Duty-Free Entry: There are no instruments of the same general category manufactured in the United States. Application accepted by Commissioner of Customs: March 6, 2014.

Docket Number: 14-004. Applicant: Utah State University, 8300 Old Main Hill, Utah State University, Logan, UT 84322-8300. Instrument: Electron Microscope. Manufacturer: FEI Company, Czech Republic. Intended Use: The instrument will be used to characterize materials for energy conversion, biosensors and bioplastic creation, and basic science on the electron transport, contamination control of soil, and to improve the quality and stability of lipid-based food. Justification for Duty-Free Entry: There are no instruments of the same general category manufactured in the United States. Application accepted by Commissioner of Customs: March 6, 2014.

Dated: March 25, 2014.
Gregory W. Campbell,
Director of Subsidies Enforcement, Enforcement and Compliance.

[FR Doc. 2014-07124 Filed 3-28-14; 8:45 am]

BILLING CODE 3510-DS-P